DEPARTMENT OF HOMELAND SECURITY

Federal Emergency Management Agency

44 CFR Part 65

[Docket No. FEMA-B-7716]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472 (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and country | Location and case No. | Date and name of newspaper where notice was published | Chief executive officer of community | Effective date of modification | Community No.
Alabama:
Shelby | City of Pelham (07-04-1305P) | February 14, 2007; February 21, 2007; Shelby County Reporter | The Honorable Bobby Hayes, Mayor, City of Pelham, P.O. Box 1419, Pelham, AL 35124 | May 23, 2007 | 010193
Tuscaloosa | City of Northport (06-04-C176P) | February 14, 2007; February 21, 2007; The Northport Gazette | The Honorable Harvey Fretwell, Mayor, City of Newport, Northport City Hall, 3500 McFarland Boulevard, Northport, AL 35476 | March 1, 2007 | 010202
Alaska: Anchorage | Municipality of Anchorage (06-10-B606P) | December 21, 2006; December 28, 2006; Anchorage Daily News | The Honorable Mark Begich, Mayor, Municipality of Anchorage, P.O. Box 196650, Anchorage, AK 99519-6650 | November 29, 2006 | 020005
Arizona:
Pima | City of Tucson (06-09-BA36P) | February 15, 2007; February 22, 2007; The Daily Territorial | The Honorable Bob Walkup, Mayor, City of Tucson, P.O. Box 27210, Tucson, AZ 85726 | January 26, 2007 | 040076
Pima | City of Tucson (06-09-BG63P) | December 14, 2006; December 21, 2006; The Daily Territorial | The Honorable Bob Walkup, Mayor, City of Tucson, P.O. Box 27210, Tucson, AZ 85726 | November 22, 2006 | 040076
Pima | City of Tucson (07-09-0551P) | March 15, 2007; March 22, 2007; The Daily Territorial | The Honorable Bob Walkup, Mayor, City of Tucson, City Hall, 255 West Alameda Street, Tucson, AZ 85701 | February 28, 2007 | 040076
Arkansas:
Benton | City of Bentonville (07-06-0537P) | February 9, 2007; February 15, 2007; Arkansas Democrat Gazette | The Honorable Terry L. Coberly, Mayor, City of Bentonville, 117 West Central Avenue, Bentonville, AR 72712 | May 17, 2007 | 050012
Benton | City of Lowell (07-06-0172P) | February 8, 2007; February 15, 2007; Arkansas Democrat Gazette | The Honorable Perry Long, Mayor, City of Lowell, P.O. Box 979, Lowell, AR 72745 | May 10, 2007 | 050342
Pulaski | Unincorporated areas of Pulaski County (06-06-BF55P) | February 8, 2007; February 15, 2007; Arkansas Democrat Gazette | The Honorable Floyd G. Villines, County Judge, Pulaski County Courthouse, 201 South Broadway, Little Rock, AR 72201 | May 17, 2007 | 050179
Sebastian | City of Fort Smith (05-06-1080P) | February 8, 2007; February 15, 2007; Times Record | The Honorable C. Ray Baker, Jr., Mayor, City of Fort Smith, P.O. Box 1908, Fort Smith, AR 72902 | March 8, 2007 | 055013
Sebastian | City of Fort Smith (05-06-1081P) | February 9, 2007; February 16, 2007; Times Record | The Honorable C. Ray Baker, Jr., Mayor, City of Fort Smith, 623 Garrison Avenue, Fort Smith, AR 72901 | March 8, 2007 | 055013
California:
Orange | City of Orange (07-09-0201P) | February 22, 2007; March 1, 2007; The Orange County Register | The Honorable Carolyn V. Cavecche, Mayor, City of Orange, 300 East Chapman Avenue, Orange, CA 92866 | May 31, 2007 | 060228
Orange | City of Tustin (07-09-0201P) | February 22, 2007; March 1, 2007; The Orange County Register | The Honorable Lou Bone, Mayor, City of Tustin, 300 Centennial Way, Tustin, CA 92780 | May 31, 2007 | 060235
Orange | Unincorporated areas of Orange County (07-09-0201P) | February 22, 2007; March 1, 2007; The Orange County Register | The Honorable Chris Norby, Chairman, Orange County, Board of Supervisors, 333 West Santa Ana Boulevard, Santa Ana, CA 92701 | May 31, 2007 | 060212
San Diego | City of Poway (06-09-BE88P) | January 11, 2007; January 18, 2007; San Diego Transcript | The Honorable Robert C. Emergy, Mayor, City of Poway, P.O. Box 789, Poway, CA 92074-0789 | April 19, 2007 | 060702
Yuba | Unincorporated areas of Yuba County (06-09-B119P) | January 18, 2007; January 25, 2007; The Appeal-Democrat | Mr. Robert Bendorf, Yuba County Administrator, 915 Eighth Street, Suite 115, Marysville, CA 95901 | January 29, 2007 | 060427
Colorado: El Paso | City of Colorado Springs (05-08-0638P) | February 14, 2007; February 21, 2007; El Paso County Advertiser and News | The Honorable Lionel Rivera, Mayor, City of Colorado Springs, P.O. Box 1575, Colorado Springs, CO 80901 | April 18, 2007 | 080060
Colorado: El Paso | City of Fountain (06-08-B110P) | January 3, 2007; January 10, 2007; El Paso County Advertiser and News | The Honorable Jeri Howells, Mayor, City of Fountain, 116 South Main Street, Fountain, CO 80817 | January 18, 2007 | 080061
Colorado: El Paso | Unincorported areas of El Paso County (05-08-0638P) | February 14, 2007; February 21, 2007; El Paso County Advertiser and News | The Honorable Sallie Clark, Chair, El Paso County Board of Commissioners, 27 East Vermijo Avenue, Colorado Springs, CO 80903 | April 18, 2007 | 080059
Colorado: El Paso | Unincorporated areas of El Paso County (06-08-B110P) | January 3, 2007; January 10, 2007; El Paso County Advertiser and News | The Honorable Sallie Clark, Chair, El Paso County Board of Commissioners, 27 East Vermijo Avenue, Colorado Springs, CO 80903 | January 18, 2007 | 080059
Colorado: Jefferson | City of Lakewood (06-08-B627P) | January 4, 2007; January 11, 2007; The Golden Transcript | The Honorable Steve Burkholder, Mayor, City of Lakewood, Lakewood Civic Center South, 480 South Allison Parkway, Lakewood, CO 80226 | December 11, 2006 | 085075
Colorado: Jefferson | Unincorporated areas of Jefferson County (07-08-0130P) | March 15, 2007; March 22, 2007; The Golden Transcript | The Honorable J. Kevin McCasky, Chairman, Jefferson County Board of Commissioners, 100 Jefferson County Parkway, Golden, CO 80419-5550 | January 22, 2007 | 080087
Colorado: Larimer | City of Fort Collins (06-08-B336P) | January 18, 2007; January 25, 2007; Fort Collins Coloradoan | The Honorable Doug Hutchinson, Mayor, City of Fort Collins, P.O. Box 580, Fort Collins, CO 80522-0580 | April 19, 2007 | 080102
Colorado: Larimer | Unincorporated areas of Larimer County (06-08-B336P) | January 18, 2007; January 25, 2007; Fort Collins Coloradoan | The Honorable Glenn Gibson, Chairman, Larimer County Board of Commissioners, P.O. Box 1190, Fort Collins, CO 80522-1190 | April 19, 2007 | 080101
Florida: Charlotte | City of Punta Gorda (07-04-1137P) | February 22, 2007; March 1, 2007; Charlotte Sun | The Honorable Larry Friedman, Mayor, City of Punta Gorda, 326 West Marion Avenue, Punta Gorda, FL 33950 | January 29, 2007 | 120062
Florida: Charlotte | Unincorporated areas of Charlotte County (07-04-1701P) | March 15, 2007; March 22, 2007; Charlotte Sun | The Honorable Bruce Loucks, County Administrator, Charlotte County, 18500 Murdock Circle, Port Charlotte, FL 33948 | February 21, 2007 | 120061
Florida: Collier | City of Naples (06-04-BH21P) | February 8, 2007; February 15, 2007; Naples Daily News | The Honorable Bill Barnett, Mayor, City of Naples, 735 Eight Street South, Naples, FL 34102 | January 16, 2007 | 125130
Florida: Martin | Unincorporated areas of Martin County (06-04-C015P) | February 22, 2007; March 1, 2007; The Stuart News | Mr. Duncan Ballantyne, County Administrator, Martin County, 2401 Southeast Monterey Road, Stuart, FL 34996 | May 31, 2007 | 120161
Florida: Pasco | Unincorporated areas of Pasco County (05-04-0987P) | February 8, 2007; February 15, 2007; Pasco Times | The Honorable Ann Hildebrand, Chairman, Pasco County Board of Commissioners, 7530 Little Road, New Port Richey, FL 34654 | May 17, 2007 | 120230
Florida: Polk | City of Haines City (06-04-BI19P) | February 1, 2007; February 8, 2007; The Polk County Democrat | The Honorable Horace West, Mayor, City of Haines City, P.O. Box 1507, Haines City, FL 33845 | January 22, 2007 | 120266
Florida: Walton | City of Freeport (06-04-BC49P) | January 30, 2007; February 7, 2007; Northwest Florida Daily News | The Honorable J. M. Marse, Mayor, City of Freeport, P. O. Box 339, Freeport, FL 32439 | December 20, 2006 | 120319
Georgia: Columbia | Unincorporated areas of Columbia County (06-04-B133P) | February 21, 2007; February 28, 2007; Columbia County News-Times | The Honorable Ron C. Cross, Chairman, Columbia County, Board of Commissioners, P.O. Box 498, Evans, GA 30809 | May 30, 2007 | 130059
Fulton | City of Atlanta (06-04-C646P) | February 22, 2007; March 1, 2007; Fulton County Daily Report | The Honorable Shirley Franklin, Mayor, City of Atlanta, 55 Trinity Avenue, Atlanta, GA 30303 | January 31, 2007 | 135157
Fulton | City of East Point (06-04-C646P) | February 22, 2007; March 1, 2007; Fulton County Daily Report | The Honorable Joseph L. Macon, Mayor, City of East Point, 2777 East Point Street, East Point, GA 30344 | January 31, 2007 | 130087
Hawaii: Maui | Unincorporated areas of Maui County (05-09-A226P) | February 15, 2007; February 22, 2007; Maui News | The Honorable Charmaine Tavares, Mayor, Maui County, 200 South High Street, Ninth Floor, Wailuku, Maui, HI 96793 | May 24, 2007 | 150003
Illinois: Cook | Village of South Barrington (06-05-BT49P) | March 1, 2007; March 8, 2007; Daily Herald | Mr. Frank J. Munao, Jr., President, Village of South Barrington, Village Hall, 30 South Barrington Road, Barrington, IL 60010 | June 7, 2007 | 170161
Kankakee | Village of Bradley (06-05-BJ19P) | January 18, 2007; January 25, 2007; Kankakee Daily Journal | The Honorable Gael K. Kent, Mayor, Village of Bradley, 147 South Michigan, Bradley, IL 60915 | December 22, 2006 | 170338
Kankakee | Unincorporated areas of Kankakee County (06-05-BJ19P) | January 18, 2007; January 25, 2007; Kankakee Daily Journal | The Honorable Karl Kruse, Chairman, Kankakee County Board, 189 East Court Street, Fifth Floor, Kankakee, IL 60901 | December 22, 2006 | 170336
Lake | Village of Lake Villa (06-05-BU68P) | February 22, 2007; March 1, 2007; The News Sun | The Honorable Frank M. Loffredo, Mayor, Village of Lake Villa, P.O. Box 519, Lake Villa, IL 60046 | May 31, 2007 | 170375
Kansas: Sedgwick | City of Wichita (06-07-B210P) | February 15, 2007; February 22, 2007; The Wichita Eagle | The Honorable Carlos Mayans, Mayor, City of Wichita, City Hall, 455 North Main Street, Wichita, KS 67202 | May 24, 2007 | 200328
Maine: Cumberland | Town of Gorham (07-01-0160P) | January 18, 2007; January 25, 2007; Portland Press Herald | The Honorable Michael J. Phinney, Chairman, Gorham Town Council, Gorham Municipal Center, 75 South Street, Gorham, ME 04038 | April 26, 2007 | 230047
York | City of Biddeford (06-01-B015P) | January 11, 2007; January 18, 2007; York County Coast Star | The Honorable Wallace H. Nutting, Mayor, City of Biddeford, 205 Main Street, Biddeford, ME 04005 | December 15, 2006 | 230145
Maryland: Carroll | Unincorporated areas of Carroll County (06-03-B843P) | March 1, 2007; March 8, 2007; Carroll County Times | The Honorable Julia W. Gouge, President, Carroll County, Board of Commissioners, 225 North Center Street, Room 300, Westminster, MD 21157 | March 15, 2007 | 240015
Michigin: Washtenaw | City of Ann Arbor (07-05-0217P) | February 22, 2007; March 1, 2007; The Ann Arbor News | The Honorable John Hieftje, Mayor, City of Ann Arbor, 100 North 5th Avenue, Ann Arbor, MI 48104 | January 23, 2007 | 260213
Minnesota: Anoka | City of Blaine (06-05-BY83P) | February 23, 2007; March 2, 2007; Blaine/Spring Lake Park Life | The Honorable Thomas Ryan, Mayor, City of Blaine, 10801 Town Square Drive NE, Blaine, MN 55449 | January 31, 2007 | 270007
Minnesota: Olmsted | City of Rochester (06-05-B433P) | March 8, 2007; March 15, 2007; Post-Bulletin | The Honorable Ardell F. Brede, Mayor, City of Rochester, City Hall, 201 Fourth Street Southeast, Room 281, Rochester, MN 55904 | February 14, 2007 | 275246
Minnesota: Olmsted | Unincorporated areas of Olmsted County (06-05-B433P) | March 8, 2007; March 15, 2007; Post-Bulletin | The Honorable Ken Brown, Commissioner, District 2, Olmsted County Board of Commissioners, 151 Fourth Street Southeast, Rochester, MN 55904 | February 14, 2007 | 270626
Minnesota: Polk | City of Crookston (07-05-1774P) | February 15, 2007; February 22, 2007; The Crookston Daily Times | The Honorable Dave Genereaux, Mayor, City of Crookston, 124 North Broadway, Crookston, MN 56716 | February 26, 2007 | 270364
Mississippi: Rankin | Pearl River Valley Water Supply District (06-04-BN09P) | February 7, 2007; February 14, 2007; Rankin County News | Mr. Benny French, P.E., PLS, General Manager, Pearl River Valley Water Supply District, P.O. Box 2180, Ridgeland, MS 39158 | February 12, 2007 | 280338
Mississippi: Rankin | Unincorporated areas of Rankin County (06-04-BN09P) | February 7, 2007; February 14, 2007; Rankin County News | Mr. Norman McLeod, County Administrator, Rankin County, 211 East Government Street, Suite A, Brandon, MS 39042 | February 12, 2007 | 280142
Nevada: Clark | Unincorporated areas of Clark County (06-09-B934P) | December 14, 2006; December 21, 2006; Las Vegas Review-Journal | The Honorable Rory Reid, Chair, Clark County Board of Commissioners, 500 South Grand Central Parkway, Las Vegas, NV 89106 | March 22, 2007 | 320003
Nevada: Clark | City of North Las Vegas (06-09-BD79P) | December 21, 2006; December 28, 2006; Las Vegas Review-Journal | The Honorable Michael L. Montandon, Mayor, City of North Las Vegas, 2200 Civic Center Drive, North Las Vegas, NV 89030 | November 30, 2006 | 320007
New Jersey: Bergen | Borough of Allendale (07-02-0297P) | February 23, 2007; March 2, 2007; The Record | The Honorable Vince Barra, Mayor, Borough of Allendale, 500 West Crescent Avenue, Allendale, NJ 07401 | February 26, 2007 | 340019
New York: Westchester | City of New Rochelle (06-02-B832P | January 25, 2007; February 1, 2007; The Journal News | The Honorable Noam Bramson, Mayor, City of New Rochelle, 515 North Avenue, New Rochelle, NY 10801 | July 5, 2007 | 360922
North Carolina: Lee | City of Sanford (06-04-BM79P) | January 18, 2007; January 25, 2007; The Sanford Herald | The Honorable Cornelia Olive, Mayor, City of Sanford, P.O. Box 3729, Sanford, NC 27331 | December 21, 2006 | 370143
North Carolina: Mecklenburg | City of Charlotte (06-04-BP55P) | January 18, 2007; January 25, 2007; The Charlotte Observer | The Honorable Patrick McCrory, Mayor, City of Charlotte, 600 East Fourth Street, Charlotte, NC 28202 | September 29, 2006 | 370159
North Carolina: Orange | Unincorporated areas of Orange County (06-04-BQ22P) | January 17, 2007; January 24, 2007; The Chapel Hill News | The Honorable Barry Jacobs, Chairman, Orange County Board of Commissioners, 2105 Moorefields Road, Hillsborough, NC 27278 | February 3, 2007 | 370342
Ohio: Greene | Unincorporated areas of Greene County (06-05-BJ18P) | December 30, 2006; January 7, 2007; Xenia Daily Gazette | The Honorable Ralph Harper, President, Greene County Board of Commissioners, 35 Greene Street, Xenia, OH 45385 | April 9, 2007 | 390193
Ohio: Montgomery | City of Kettering (06-05-BJ18P) | December 30, 2006; January 7, 2007; Kettering-Oakwood Times | The Honorable Don Patterson, Mayor, City of Kettering, 3600 Shroyer Road, Kettering, OH 45429 | April 9, 2007 | 390412
Oklahoma: Rogers | Unincorporated areas of Rogers County (06-06-BD69P) | February 15, 2007; February 22, 2007; Claremore Daily Progress | The Honorable Kenneth Crutchfield, County Commissioner, Rogers County, 219 South Missouri, Claremore, OK 74017 | May 24, 2007 | 405379
Oklahoma: Washington | Unincorporated areas of Washington County (06-06-BD69P) | February 15, 2007; February 22, 2007; Claremore Daily Progress | The Honorable Linda D. Herndon, County Commissioner, Washington County, Washington County Administration Office, 400 South Johnstone, Room 201, Bartlesville, OK 74003 | May 24, 2007 | 400459
Oklahoma: Tulsa | City of Tulsa (06-06-BH35P) | February 8, 2007; February 15, 2007; Tulsa World | The Honorable Kathy Taylor, Mayor, City of Tulsa, 200 Civic Center, 11th Floor, Tulsa, OK 74103 | May 17, 2007 | 405381
Oregon: Multnomah | City of Fairview (06-10-B082P) | December 20, 2006; December 27, 2006; The Gresham Outlook | The Honorable Mike Weatherby, Mayor, City of Fairview, 1300 Northeast Village Street, Fairview, OR 97024 | March 28, 2007 | 410180
Puerto Rico: Puerto Rico | Commonwealth of Puerto Rico (07-02-0109P) | March 1, 2007; March 8, 2007; El San Juan Star | The Honorable Anibal Acevedo-Vila, Governor of the Commonwealth of Puerto Rico, P.O. Box 82, La Fortaleza, San Juan, PR 00901 | June 7, 2007 | 720000
South Carolina: Charleston | Town of Mount Pleasant (07-04-0382P) | February 14, 2007; February 21, 2007; Moultrie News | The Honorable Harry M. Hallman, Jr., Mayor, Town of Mount Pleasant, Post Office Box 745, Mount Pleasant, SC 29465 | January 29, 2007 | 455417
South Carolina: Horry | Unincorporated areas of Horry County (06-04-B279P) | January 18, 2007; January 25, 2007; Horry Independent | The Honorable Elizabeth Gilland, Chairmain, Board of Commissioners Horry County, 1511 Elm Street, Conway, SC 29526 | April 26, 2007 | 450104
South Carolina: Lexington | Unincorporated areas of Lexington County (06-04-BI42P) | February 22, 2007; March 1, 2007; The Lexington County Chronicle | The Honorable M. Todd Cullum, Chairman, Lexington County Council, 212 South Lake Drive, Lexington, SC 29072 | January 31, 2007 | 450129
South Dakota: Lawrence | City of Spearfish (06-08-B498P) | February 15, 2007; February 22, 2007; Black Hills Pioneer | The Honorable Jerry Krambech, Mayor, City of Spearfish, 223 Vermont Street, Spearfish, SD 57783 | January 25, 2007 | 460046
South Dakota: Pennington | Unincorporated areas of Pennington County (06-08-B381P) | January 18, 2007; January 25, 2007; Rapid City Journal | The Honorable Ken Davis, Chairman, Pennington County Board of Commissioners, 315 Saint Joseph Street, Suite 156, Rapid City, SD 57701 | January 22, 2007 | 460064
Tennessee: Shelby | Unincorporated areas of Shelby County (04-04-A415P) | January 11, 2007; January 18, 2007; The Daily News | The Honorable A. C. Wharton, Jr., Mayor, Shelby County, 160 North Main Street, Suite 850, Memphis, TN 38103 | April 19, 2007 | 470214
Texas: Collin | Town of Fairview (06-06-B959P) | January 11, 2007; January 18, 2007; McKinney Courier Gazette | The Honorable Sim Israeloff, Mayor, Town of Fairview, 500 South Highway 5, Fairview, TX 75069 | April 19, 2007 | 481069
Texas: Collin | Unincorporated areas of Collin County (06-06-B959P) | January 11, 2007; January 18, 2007; McKinney Courier Gazette | The Honorable Ron Harris, Collin County Judge, 210 South McDonald Street, Suite 626, McKinney, TX 75069 | April 19, 2007 | 480130
Texas: Dallas | City of Irving (06-06-BD58P) | March 8, 2007; March 15, 2007; Dallas Morning News | The Honorable Herbert A. Gears, Mayor, City of Irving, 825 W. Irving Blvd., Irving, TX 75060 | June 14, 2007 | 480180
Texas: Denton | City of Denton (06-06-BH76P) | March 15, 2007; March 22, 2007; Denton Record-Chronicle | The Honorable Perry McNeill, Mayor, City of Denton, 215 East McKinney Street, Denton, TX 76201 | February 27, 2007 | 480194
Texas: Denton | City of Denton (06-06-BJ01P) | February 15, 2007; February 22, 2007; Denton Record-Chronicle | The Honorable Perry McNeill, Mayor, City of Denton, 215 East McKinney Street, Denton, TX 76201 | January 26, 2007 | 480194
Texas: Denton | Town of Shady Shores (06-06-BJ01P) | February 15, 2007; February 22, 2007; Denton Record-Chronicle | The Honorable Olive Stephens, Mayor, Town of Shady Shores, P.O. Box 362, Lake Dallas, TX 75065 | January 26, 2007 | 481135
Texas: Erath | City of Stephenville (07-06-0505P) | January 25, 2007; February 1, 2007; Stephenville Empire-Tribune | The Honorable Rusty Jergins, Mayor, City of Stephenville, 298 West Washington Street, Stephenville, TX 76401 | May 3, 2007 | 480220
Texas: Fort Bend, Harris and Waller | City of Katy (06-06-B244P) | February 15, 2007; February 22, 2007; Fort Bend Herald | The Honorable Doyle G. Callender, Mayor, City of Katy, P.O. Box 617, Katy, TX 77492 | February 26, 2007 | 480301
Texas: Fort Bend | Village of Pleak (06-06-BG61P) | February 22, 2007; March 1, 2007; Fort Bend Herald | The Honorable Margie Krenek, Mayor, Village of Pleak, 6621 FM 2218 South, Richmond, TX 77469 | May 31, 2007 | 481615
Texas: Fort Bend | City of Rosenberg (06-06-BG61P) | February 22, 2007; March 1, 2007; Fort Bend Herald | The Honorable Joe M. Gurecky, Mayor, City of Rosenberg, P.O. Box 32, Rosenberg, TX 77471 | May 31, 2007 | 480232
Texas: Fort Bend | Unincorporated areas of Fort Bend County (06-06-B244P) | February 15, 2007; February 22, 2007; Fort Bend Herald | The Honorable Robert E. Hebert, Ph.D., Fort Bend County Judge, 301 Jackson Street, Richmond, TX 77469 | February 26, 2007 | 480228
Texas: Fort Bend | Unincorporated areas of Fort Bend County (06-06-BG61P) | February 22, 2007, March 1, 2007; Fort Bend Herald | The Honorable Robert E. Hebert, Ph. D., Judge, Fort Bend County, 301 Jackson, Richmond, TX 77469 | May 31, 2007 | 480228
Texas: Harris | City of Houston (06-06-BJ02P) | February 15, 2007, February 22, 2007; Houston Chronicle | The Honorable Bill White, Mayor, City of Houston, P.O. Box 1562, Houston, TX 77251 | January 25, 2007 | 480296
Texas: Harris | Unincorporated areas of Harris County (06-06-BJ02P) | February 15, 2007; February 22, 2007; Houston Chronicle | The Honorable Robert Eckels, Harris County Judge, 1001 Preston, Suite 911, Houston, TX 77002 | January 25, 2007 | 480287
Texas: Hays | City of San Marcos (06-06-B107P) | January 17, 2007; January 24, 2007; The Free Press | The Honorable Susan Clifford-Narvaiz, Mayor, City of San Marcos, 630 East Hopkins, San Marcos, TX 78666 | January 22, 2007 | 485505
Texas: Hays | Unincorporated areas of Hays County (06-06-B107P) | January 17, 2007; January 24, 2007; The Free Press | The Honorable Jim Powers, Hays County Judge, 111 East San Antonio Street, Suite 300, San Marcos, TX 78666 | January 22, 2007 | 480321
Texas: Hays | City of Granbury (06-06-BG36P) | February 14, 2007; February 21, 2007; Hood County News | The Honorable David Southern, Mayor, City of Granbury, 116 West Bridge Street, Granbury, TX 76048 | January 23, 2007 | 480357
Texas: Johnson | City of Burleson (05-06-0645P) | January 10, 2007; January 17, 2007; Burleson Star | The Honorable Kenneth Shetter, Mayor, City of Burleson, 141 West Renfro Street, Burleson, TX 76028 | January 19, 2007 | 485459
Texas: Jones and Taylor | City of Abilene (06-06-BD70P) | January 18, 2007; January 25, 2007; Abilene Reporter-News | The Honorable Norm Archibald, Mayor, City of Abilene, 717 Byrd Drive, Abilene, TX 79601 | April 19, 2007 | 485450
Texas: Kendall | Unincorporated areas of Kendall County (06-06-B858P) | January 19, 2007; January 26, 2007; The Boerne Star | The Honorable Eddie John Vogt, Kendall County Judge, Kendall County Courthouse, 201 East San Antonio Street, Boerne, TX 78006 | April 27, 2007 | 480417
Texas: Lubbock | City of Lubbock (06-06-BD46P) | March 8, 2007; March 15, 2007; Lubbock Avalanche-Journal | The Honorable David Miller, Mayor, City of Lubbock, P.O. Box 2000, Lubbock, TX 79457 | June 14, 2007 | 480452
Texas: Tarrant | City of Fort Worth (06-06-B718P) | November 30, 2006; December 7, 2006; Fort Worth Star-Telegram | The Honorable Michael J Moncrief, Mayor, City of Forth Worth, 1000 Throckmorton Street, Fort Worth, TX 76102 | March 8, 2007 | 480596
Texas: Tarrant | City of Fort Worth (06-06-BG38P) | October 26, 2006; November 2, 2006; North West Tarrant County Times-Record | The Honorable Michael J. Moncrief, Mayor, City of Fort Worth, 1000 Throckmorton Street, Fort Worth, TX 76102 | February 1, 2007 | 480596
Texas: Tarrant | City of Fort Worth (06-06-BH34P) | February 8, 2007; February 15, 2007; Denton Record-Chronicle | The Honorable Michael J. Moncrief, Mayor, City of Fort Worth, 1000 Throckmorton Street, Fort Worth, TX 76102 | May 17, 2007 | 480596
Texas: Tarrant | City of Fort Worth (06-06-BK38P) | March 1, 2007; March 8, 2007; Fort Worth Star-Telegram | The Honorable Mike J. Moncrief, Mayor, City of Fort Worth, 1000 Throckmorton Street, Fort Worth, TX 76102 | June 7, 2007 | 480596
Texas: Tarrant | City of Fort Worth (07-06-0103P) | November 30, 2006; December 7, 2006; Fort Worth Star-Telegram | The Honorable Michael J. Moncrief, Mayor, City of Fort Worth, 1000 Throckmorton Street, Fort Worth, TX 76102 | March 8, 2007 | 480596
Texas: Tarrant | City of Saginaw (06-06-BG38P) | October 26, 2006; November 2, 2006; North West Tarrant County Times-Record | The Honorable Gary Brinkley, Mayor, City of Saginaw, 333 West McLeroy Boulevard, Saginaw, TX 76179 | February 1, 2007 | 480610
Texas: Tarrant | Unincorporated areas of Tarrant County (06-06-B718P) | November 30, 2006; December 7, 2006; Fort Worth Star-Telegram | The Honorable Tom Vandergriff, County Judge, Tarrant County, 100 East Weatherford Street, Suite 502A, Fort Worth, TX 76196 | March 8, 2007 | 480582
Texas: Travis | City of Austin (06-06-B467P) | January 18, 2007; January 25, 2007; Austin American-Statesman | The Honorable Will Wynn, Mayor, City of Austin, P.O. Box 1088, Austin, TX 78767 | December 29, 2006 | 480264
Texas: Williamson | City of Cedar Park (06-06-BI70P) | February 21, 2007; February 28, 2007; Hill County News | The Honorable Bob Lemon, Mayor, City of Cedar Park, City Hall, 600 North Bell Boulevard, Cedar Park, TX 78613 | May 30, 2007 | 481282
Virginia: Fauquier | Unincorporated areas of Fauquier County (06-03-B895P) | February 7, 2007; February 14, 2007; Fauquier Times | The Honorable Ray Graham, Chairman, Fauquier County Board of Supervisors, Warren Green Building, 10 Hotel Street, Suite 208, Warrenton, VA 20186 | January 18, 2007 | 510055

(Catalog of Federal Domestic Assistance No. 97.022, “Flood Insurance.”)

Dated: May 15, 2007.
David I. Maurstad,
Federal Insurance Administrator of the National Flood Insurance Program, Federal Emergency Management Agency, Department of Homeland Security.

[FR Doc. E7-10969 Filed 6-6-07; 8:45 am]

BILLING CODE 9110-12-P